DEPARTMENT OF HEALTH AND HUMAN SERVICES

Centers for Disease Control and Prevention

Disease, Disability, and Injury Prevention and Control Special Emphasis Panel (SEP): Public Health Burden of Antimicrobial Resistant Streptococcus Pneumoniae, Panel 1, Potential Extramural Project (PEP), R02

In accordance with Section 10(a)(2) of the Federal Advisory Committee Act (Pub. L. 92-463), the Centers for Disease Control and Prevention (CDC) announces the following meeting:

Name: Disease, Disability, and Injury Prevention and Control Special Emphasis Panel (SEP): Public Health Burden of Antimicrobial Resistant Streptococcus Pneumoniae, Panel 1, Potential Extramural Project (PEP), R02.

Times and Dates: 1:30 p.m.-3 p.m., July 11, 2005 (Closed).

Place: Teleconference.

Status: The meeting will be closed to the public in accordance with provisions set forth in Section 552b(c) (4) and (6), Title 5 U.S.C., and the Determination of the Director, Management Analysis and Services Office, CDC, pursuant to Public Law 92-463.

Matters To Be Discussed: The meeting will include the review, discussion, and evaluation of applications received in response to: Public Health Burden of Antimicrobial Resistant Streptococcus Pneumoniae, Panel 1, Potential Extramural Project (PEP), R02.

Contact Person for More Information: J. Felix Rogers, Ph.D., M.P.H., Scientific Program Administrator, National Immunization Program, CDC, 1600 Clifton Road NE., Mailstop E-05, Atlanta, GA 30333, Telephone 404.639.6101.

The Director, Management Analysis and Services Office, has been delegated the authority to sign Federal Register notices pertaining to announcements of meetings and other committee management activities, for both CDC and the Agency for Toxic Substances and Disease Registry.

Dated: June 13, 2005.
Alvin Hall,
Director, Management Analysis and Services Office, Centers for Disease Control and Prevention.

[FR Doc. 05-12071 Filed 6-17-05; 8:45 am]

BILLING CODE 4163-18-P